DEPARTMENT OF THE TREASURY

United States Mint

Pricing for 2010 United States Mint America the Beautiful Quarters™ Two-Roll Set, etc.

AGENCY: United States Mint, Department of the Treasury.

ACTION: Notice.

SUMMARY: The United States Mint is announcing the price of the 2010 United States Mint America the Beautiful Quarters Two-Roll Set and the 2010 United States Mint America the Beautiful Quarters 100-Coin Bags.

The 2010 United States Mint America the Beautiful Quarters Two-Roll Sets, featuring Hot Springs National Park, Yellowstone National Park, Yosemite National Park, Grand Canyon National Park, and Mount Hood National Forest, will be priced at $32.95 each. These sets will contain rolls of coins struck at both the United States Mint facilities at Philadelphia and Denver. The first set, featuring Hot Springs National Park, will be released on April 19, 2010.

The 2010 United States Mint America the Beautiful Quarters 100-Coin Bags, also featuring Hot Springs National Park, Yellowstone National Park, Yosemite National Park, Grand Canyon National Park, and Mount Hood National Forest, will be priced at $35.95 each. Bags of coins from both the United States Mint facilities at Philadelphia and Denver will be available. The first bags, featuring Hot Springs National Park, will be released on April 19, 2010.

FOR FURTHER INFORMATION CONTACT: B.B. Craig, Associate Director for Sales and Marketing; United States Mint; 801 9th Street, NW.; Washington, DC 20220; or call 202-354-7500.

Authority: 31 U.S.C. 5111, 5112 & 9701.

Dated: March 3, 2010.
Edmund C. Moy,
Director, United States Mint.

[FR Doc. 2010-4866 Filed 3-5-10; 8:45 am]

BILLING CODE P